DEPARTMENT OF THE INTERIOR

Bureau of Land Management

[OR-958-1430-ET; GPO-03-0054; OR-55753]

Public Land Order No. 7556; Withdrawal of Public Lands for the North Fork Smith River, OR

AGENCY: Bureau of Land Management, Interior.

ACTION: Public land order.

SUMMARY: This order withdraws approximately 960 acres of National Forest System lands from location and entry under the United States mining laws for 20 years to protect the outstanding recreational, scenic, fisheries, and water quality values of the Scenic section of the North Fork Smith Wild and Scenic River. The lands have been and will remain open to such other forms of disposition as may by law be made of National Forest System lands and to mineral leasing.

EFFECTIVE DATE: March 20, 2003.

FOR FURTHER INFORMATION CONTACT: Charles R. Roy, BLM Oregon/Washington State Office, P.O. Box 2965, Portland, OR 97208-2965, 503-952-6189.

SUPPLEMENTARY INFORMATION: The withdrawal includes all lands open to mining on the Scenic section, including the river bed, extending ¼ mile from the centerline.

Order

By virtue of the authority vested in the Secretary of the Interior by section 204 of the Federal Land Policy and Management Act of 1976, 43 U.S.C. 1714 (1994), it is ordered as follows:

1. Subject to valid existing rights, the following described National Forest System lands are hereby withdrawn from location and entry under the United States mining laws (30 U.S.C. Ch. 2 (1994)), but not from the mineral leasing laws, to protect the North Fork Smith River:

Willamette Meridian

Siskiyou National Forest

All lands lying on the right (west) bank of the river corridor, including the river bed, and extending ¼ mile from the centerline of the North Fork Smith River, from confluence of Horse Creek (boundary of upstream wild segment of the North Fork Smith River) downstream 4.5 miles to the confluence of Baldface Creek (boundary of the downstream wild segment of the North Fork Smith River). These lands are located approximately in but not limited to the following:

T. 40 S., R. 11 W., unsurveyed

Sec. 9, S½SE¼;

Sec. 15, NW¼NW¼ and SW¼SW¼;

Sec. 16, E½;

Sec. 21, E½;

Sec. 22, W½W½;

Sec. 27, W½ and W½E½;

Sec. 28, NE¼NE¼;

Protraction Block 41 (formerly sec. 34).

T. 41 S., R. 11 W.,

Sec. 2, W½;

Sec. 3, NE¼ and NE¼NW¼;

Sec. 11, N½NW¼.

All lands lying on the left (east) bank of the river corridor, including the river bed, and extending ¼ mile from the centerline of the North Fork Smith River starting at the Kalmiopsis Wilderness Area Boundary and extending south to the wild segment of the North Fork Smith River. These lands are located approximately in but not limited to the following:

T. 41 S., R. 11 W.,

Sec. 2, those portions lying outside the boundaries of the Kalmiopsis Wilderness Area;

Sec. 11, those portions lying outside the boundaries of the Wild segment of the North Fork Smith Wild and Scenic River.

The areas described aggregate approximately 960 acres in Curry County and include all lands not previously withdrawn from mining in the Scenic segment of the North Fork Smith Wild and Scenic River in Oregon.

2. The withdrawal made by this order does not alter the applicability of those public land laws governing the use of the lands under lease, license, or permit, or governing the disposal of their mineral or vegetative resources other than under the mining laws.

3. This withdrawal will expire 20 years from the effective date of this order unless, as a result of a review conducted before the expiration date pursuant to section 204(f) of the Federal Land Policy and Management Act of 1976, 43 U.S.C. 1714(f)(1994), the Secretary determines that the withdrawal shall be extended.

Dated: March 5, 2003.
Rebecca W. Watson,
Assistant Secretary—Land and Minerals Management.

[FR Doc. 03-6673 Filed 3-19-03; 8:45 am]

BILLING CODE 4310-33-P